DEPARTMENT OF THE INTERIOR

National Park Service

[NPS-WASO-NAGPRA-NPS0030132; PPWOCRADN0-PCU00RP14.R50000]

Notice of Inventory Completion: University of California, Davis, Davis, CA

AGENCY: National Park Service, Interior.

ACTION: Notice.

SUMMARY: The University of California, Davis (UC Davis), has completed an inventory of human remains and associated funerary objects housed in the UC Davis Department of Anthropology Museum, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to UC Davis. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to UC Davis at the address in this notice by June 8, 2020.

ADDRESSES: Megon Noble, NAGPRA Project Manager, University of California, Davis, 412 Mrak Hall, One Shields Avenue, Davis, CA 95616, telephone (530) 752-8501, email mnoble@ucdavis.edu.

SUPPLEMENTARY INFORMATION: Notice is here given in accordance with the Native American Graves Protection and Repatriation Act (NAGPRA), 25 U.S.C. 3003, of the completion of an inventory of human remains and associated funerary objects under the control of the University of California, Davis, Davis, CA. The human remains and associated funerary objects were removed from Calaveras County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains and associated funerary objects was made by UC Davis professional staff in consultation with Indian Tribes. The following Tribes were consulted or invited to consult: Big Valley Band of Pomo Indians of the Big Valley Rancheria, California; Buena Vista Rancheria of Me-Wuk Indians of California; Cahto Tribe of the Laytonville Rancheria; California Valley Miwok Tribe, California; Cher-Ae Heights Indian Community of the Trinidad Rancheria, California; Chicken Ranch Rancheria of Me-Wuk Indians of California; Cloverdale Rancheria of Pomo Indians of California; Coyote Valley Band of Pomo Indians of California; Dry Creek Rancheria of Pomo Indians, California (previously listed as Dry Creek Rancheria of Pomo Indians of California); Elem Indian Colony of Pomo Indians of the Sulphur Bank Rancheria, California; Guidiville Rancheria of California; Habematolel Pomo of Upper Lake, California; Hopland Band of Pomo Indians, California (previously listed as Hopland Band of Pomo Indians of the Hopland Rancheria, California); Ione Band of Miwok Indians of California; Jackson Band of Miwuk Indians (previously listed as Jackson Rancheria of Me-Wuk Indians of California); Kashia Band of Pomo Indians of the Stewarts Point Rancheria, California; Lytton Rancheria of California; Manchester Band of Pomo Indians of the Manchester Rancheria, California (previously listed as Manchester Band of Pomo Indians of the Manchester-Point Arena Rancheria, California); Middletown Rancheria of Pomo Indians of California; Picayune Rancheria of Chukchansi Indians of California; Pinoleville Pomo Nation, California (previously listed as the Pinoleville Rancheria of Pomo Indians of California); Potter Valley Tribe, California; Redding Rancheria, California; Redwood Valley or Little River Band of Pomo Indians of the Redwood Valley Rancheria California (previously listed as Redwood Valley Rancheria of Pomo Indians of California); Reno-Sparks Indian Colony, Nevada; Robinson Rancheria (previously listed as Robinson Rancheria Band of Pomo Indians, California and the Robinson Rancheria of Pomo Indians of California); Santa Rosa Indian Community of the Santa Rosa Rancheria, California; Scotts Valley Band of Pomo Indians of California; Sherwood Valley Rancheria of Pomo Indians of California; Shingle Springs Band of Miwok Indians, Shingle Springs Rancheria (Verona Tract), California; Susanville Indian Rancheria, California; Table Mountain Rancheria (previously listed as Table Mountain Rancheria of California); Tule River Indian Tribe of the Tule River Reservation, California; Tuolumne Band of Me-Wuk Indians of the Tuolumne Rancheria of California; United Auburn Indian Community of the Auburn Rancheria of California; Washoe Tribe of Nevada and California (Carson Colony, Dresslerville Colony, Woodfords Community, Stewart Community & Washoe Ranches); and the Wilton Rancheria, California (hereafter referred to as “The Tribes Consulted or Invited to Consult”).

History and Description of the Remains

In 1970, human remains representing, at minimum, five individuals were removed from a site near Mokelumne Hill in Calaveras County, CA (Accession 442). The burials were inadvertently discovered during the construction of a tennis court on private property. Field records indicate that two burials, an adult and a juvenile, were identified and exhumed. In 1995, UC Davis reported that the two burials represent a minimum of three individuals. In 2018, human remains recovered from the site were reviewed in consultation with one consulting Tribe. UC Davis determined the human remains represented a minimum of five individuals based on age classification. No known individuals were identified. The 47 associated funerary objects are 33 flakes, three cobble fragments, one quartz crystal, one mineral, seven faunal remains, and two bifaces.

The human remains have been determined to be Native American based on the archeological context of the site. Radiocarbon dates indicates that the burials date to approximately A.D. 134-410. Geographic, anthropological, archeological, historical, linguistic, and oral traditional sources provide evidence of cultural affiliation between the human remains and contemporary Miwok people. The following Indian Tribes identify as Eastern, Plains, or Sierra Miwok and are culturally affiliated with the above human remains and associated funerary objects: Buena Vista Rancheria of Me-Wuk Indians of California; California Valley Miwok Tribe, California; Chicken Ranch Rancheria of Me-Wuk Indians of California; Ione Band of Miwok Indians of California; Jackson Band of Miwuk Indians (previously listed as Jackson Rancheria of Me-Wuk Indians of California); Shingle Springs Band of Miwok Indians, Shingle Springs Rancheria (Verona Tract), California; Tuolumne Band of Me-Wuk Indians of the Tuolumne Rancheria of California; United Auburn Indian Community of the Auburn Rancheria of California; and the Wilton Rancheria, California (hereafter referred to as “The Affiliated Tribes”).

Determinations Made by the University of California, Davis

Officials of the University of California, Davis have determined that:

• Pursuant to 25 U.S.C. 3001(9), the human remains described in this notice represent the physical remains of five individuals of Native American ancestry.

• Pursuant to 25 U.S.C. 3001(3)(A), the 47 objects described in this notice are reasonably believed to have been placed with or near individual human remains at the time of death or later as part of the death rite or ceremony.

• Pursuant to 25 U.S.C. 3001(2), there is a relationship of shared group identity that can be reasonably traced between the Native American human remains and associated funerary objects and The Affiliated Tribes.

Additional Requestors and Disposition

Lineal descendants or representatives of any Indian Tribe or Native Hawaiian organization not identified in this notice that wish to request transfer of control of these human remains and associated funerary objects should submit a written request with information in support of the request to Megon Noble, NAGPRA Project Manager, University of California, Davis, 433 Mrak Hall, One Shields Avenue, Davis, CA 95616, telephone (530) 752-8501, email mnoble@ucdavis.edu, by June 8, 2020. After that date, if no additional requestors have come forward, transfer of control of the human remains and associated funerary objects to The Affiliated Tribes may proceed.

The University of California, Davis is responsible for notifying The Tribes Consulted or Invited to Consult that this notice has been published.

Dated: April 3, 2020.
Melanie O'Brien,
Manager, National NAGPRA Program.

[FR Doc. 2020-09909 Filed 5-7-20; 8:45 am]

BILLING CODE 4312-52-P